DEPARTMENT OF STATE

[Public Notice 4135]

Office of the Coordinator for Counterterrorism; Designation of Foreign Terrorist Organizations

Pursuant to section 219 of the Immigration and Nationality Act (“INA”), as added by the Antiterrorism and Effective Death Penalty Act of 1996, Public Law 104-132, section 302, 110 Stat. 1214, 1248 (1996), and amended by the Illegal Immigration Reform and Immigrant Responsibility Act of 1996, Public Law 104-208, 110 Stat. 3009 (1996), and by the Strengthening America by Providing Appropriate Tools Required to Intercept and Obstruct Terrorism (USA PATRIOT ACT) Act of 2001, Public Law 107-56 (2001), the Secretary of State hereby redesignates, effective September 25, 2002, the following organization as a foreign terrorist organization:

The Islamic Movement of Uzbekistan also known as the IMU.

Dated: September 18, 2002.
Francis X. Taylor,
Coordinator for Counterterrorism, Department of State.

[FR Doc. 02-24366 Filed 9-24-02; 8:45 am]

BILLING CODE 4710-10-P